DEPARTMENT OF EDUCATION

National Advisory Committee on Institutional Quality and Integrity

AGENCY: National Advisory Committee on Institutional Quality and Integrity (NACIQI), Office of Postsecondary Education, U.S. Department of Education.

ACTION: Announcement of the Senior Department Official's (SDO) decisions.

SUMMARY: This notice provides a link to the SDO's decision letters associated with recommendations from NACIQI's July 29 & 30, 2020 meeting.

SUPPLEMENTARY INFORMATION: NACIQI's Statutory Authority and Function: NACIQI is established under section 114 of the HEA. NACIQI advises the Secretary of Education with respect to:

• The establishment and enforcement of the standards of accrediting agencies or associations under subpart 2, part H, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Link to the Senior Department Official's Decision Letters: After NACIQI made its recognition recommendations to the SDO, pursuant to 34 Code of Federal Regulations CFR 602.34(g), each agency and the Department staff had the opportunity to submit comments on NACIQI's recommendations to the SDO pursuant to 34 CFR 602.35. There was a separate SDO for the Higher Learning Commission (HLC). The SDO for HLC issued his decision on October 26, 2020. The SDO for all other agencies issued her decisions on October 28, 2020. A link to all the SDO decision letters, as well as a list of all the agencies reviewed at the July 29-30, 2020 NACIQI meeting, are provided below. None of the agencies reviewed chose to appeal the SDO Decisions to the Secretary pursuant to 34 CFR 602.37(a). https://surveys.ope.ed.gov/erecognition/PublicDocuments.

Application for Renewal of Recognition (State Agency for the Approval of Vocational Education)

Puerto Rico State Agency for the Approval of Public Postsecondary Vocational, Technical Institutions and Programs.

Applications for Renewal of Recognition (State Agency for the Approval of Nurse Education)

1. New York State Board of Regents, State Education Department, Office of the Professions (Nursing Education).

2. Missouri State Board of Nursing.

Application for Granting of Academic (Masters and Doctoral) Degrees by Federal Agencies and Institutions

1. National Intelligence University: Undergoing Substantive Change (Reorganization/Command Change).

2. U.S. Army Command and General Staff College: Undergoing Substantive Change (Curriculum Change).

Agency Under Review and Evaluation during its period of recognition by the Department's Office of Postsecondary Education Accreditation Group, in accordance with the procedures set forth in 34 CFR 602.33.

Higher Learning Commission (HLC).

Access to Records of the Meeting: The official report of the July 29 & 30, 2020 meeting is posted on the NACIQI website. In addition, pursuant to the Federal Advisory Committee Act (FACA), at 5 U.S.C. App. 10(b), the public may request to inspect records of the meeting at 400 Maryland Avenue SW, Washington, DC, by emailing aslrecordsmanager@ed.gov or by calling (202) 453-7415 to schedule an appointment.

FOR FURTHER INFORMATION CONTACT: George Alan Smith, Executive Director/Designated Federal Official, NACIQI, U.S. Department of Education, 400 Maryland Avenue SW, Room 271-03, Washington, DC 20202, telephone: (202) 453-7757, or email: George.Alan.Smith@ed.gov.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: 20 U.S.C. 1011c.

Christopher McCaghren,
Acting Assistant Secretary, Office of Postsecondary Education.

[FR Doc. 2021-01222 Filed 1-19-21; 8:45 am]

BILLING CODE P